DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before May 3, 2002.

Address Comments to: Records Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Dated: Issued in Washington, DC, on April 11, 2002.
R. Ryan Posten,
Exemptions Program Officer, Office of Hazardous Materials Exemptions and Approvals.

Application No. | Docket No. | Applicant | Modification of exemption
4453-M |  | Dyno Nobel, Inc., Salt Lake City, UT (See Footnote 1) | 4453
10751-M |  | Dyno Nobel, Inc., Salt Lake City, UT (See Footnote 2) | 10751
10869-M |  | Norris Cylinder Company Longview, TX (See Footnote 3) | 10869
11194-M |  | Carleton Technologies Inc., Pressure Technology Div. Glen Burnie, MD (See Footnote 4) | 11194
11344-M |  | E.I. DuPont de Nemours & Company, Inc. Wilmington, DE (See Footnote 5) | 11344
11380-M |  | Baker Atlas (Houston Technology Center) Houston, TX (See Footnote 6) | 11380
11579-M |  | Dyno Nobel, Inc. Salt Lake City, UT (See Footnote 7) | 11579
11759-M |  | E.I. DuPont de Nemours & Company, Inc., Wilmington, DE (See Footnote 8) | 11759
12442-M | RSPA-00-7208 | Cryogenic Vessel Alternatives, La Porte, TX (See Footnote 9) | 12442
12443-M | RSPA-00-7209 | Buckbee-Mears Cortland (BMC) Cortland, NY (See Footnote 10) | 12443
¹ To modify the exemption to authorize the transportation of a Division 5.1 material in non-DOT specification cargo tanks, trailers and motor vehicles.
² To modify the exemption to authorize the transportation of additional Division 5.1 materials in non-DOT specification cargo tanks, trailers and motor vehicles.
³ To modify the exemption to authorize an increase in service pressure from 500-psi to a maximum of 6000-psi for the non-DOT specification steel cylinders transporting certain Division 2.1, 2.2, 2.3 materials.
⁴ To modify the exemption to authorize the transportation of additional Division 2.2 materials in non-DOT specification fully wrapped carbon-fiber reinforced aluminum lined cylinders.
⁵ To modify the exemption to authorize the transportation of an additional Division 6.1 material in DOT specification tank cars.
⁶ To modify the exemption to authorize a new tank assembly design for the non-DOT specification seamless cylinders transporting Division 2.1 materials.
⁷ To modify the exemption to authorize the transportation of additional Division 5.1 materials in non-DOT specification cargo tanks.
⁸ To modify the exemption to authorize the transportation of a Division 6.1 material in DOT specification tank cars.
⁹ To modify the exemption to authorize an increased service pressure from 45 psig to 100 psig for the 2200 gallon capacity internal insulated portable tank for the transportation of Division 2.2 materials.
¹⁰ To modify the exemption to authorize positioning the manually operated switch against movement to the track on which the Class 8 material is actively being unloaded.

[FR Doc. 02-9414 Filed 4-17-02; 8:45 am]

BILLING CODE 4910-60-M